DEPARTMENT OF THE INTERIOR

Bureau of Land Management

[LLORP000000.102000000.DF0000.14X. HAG14-0015]

Notice of Public Meeting for the John Day—Snake Resource Advisory Council: Cancellation

AGENCY: Bureau of Land Management, Interior.

ACTION: Notice; cancellation.

SUMMARY: The Bureau of Land Management, Oregon/Washington, published a document in the Federal Register on October 28, 2013, regarding a public meeting of the John Day/Snake Resource Advisory Council which was scheduled for November 14 and 15, 2013. The meeting was cancelled.

FOR FURTHER INFORMATION CONTACT: Lisa Clark, Public Affairs Specialist, BLM Prineville District Office, 3050 NE. 3rd St., Prineville, Oregon 97754, (541) 416-6864, or email lmclark@blm.gov.

Carol Benkosky,
Prineville District Manager.

[FR Doc. 2013-29829 Filed 12-13-13; 8:45 am]

BILLING CODE 4310-33-P